DEPARTMENT OF HOMELAND SECURITY

Federal Emergency Management Agency

[Docket ID FEMA-2019-0002; Internal Agency Docket No. FEMA-B-1949]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa. | City of Chandler (19-09-0018P). | The Honorable Kevin Hartke, Mayor, City of Chandler, 175 South Arizona Avenue, Chandler, AZ 85225. | Transportation & Development Department, 215 East Buffalo Street, Chandler, AZ 85225. | https://msc.fema.gov/portal/advanceSearch. | Oct. 11, 2019 | 040040
Maricopa. | City of Tempe (19-09-0018P). | The Honorable Mark Mitchell, Mayor, City of Tempe, P.O. Box 5002, Tempe, AZ 85280. | City Hall, Engineering Department, 31 East 5th Street, Tempe, AZ 85281. | https://msc.fema.gov/portal/advanceSearch. | Oct. 11, 2019 | 040054
California:
Contra Costa. | City of Oakley (18-09-2401P). | The Honorable Claire Alaura, Mayor, City of Oakley, 3231 Main Street, Oakley, CA 94561. | Public Works and Engineering Department, 3231 Main Street, Oakley, CA 94561. | https://msc.fema.gov/portal/advanceSearch. | Oct. 8, 2019 | 060766
Santa Clara. | City of San Jose (18-09-2460P). | The Honorable Sam Liccardo, Mayor, City of San Jose, Mayor's Office, 200 East Santa Clara Street, 18th Floor, San Jose, CA 95113. | Department of Public Works, 200 East Santa Clara Street Tower, 5th Floor, San Jose, CA 95113. | https://msc.fema.gov/portal/advanceSearch. | Oct. 10, 2019 | 060349
Florida:
Walton. | Unincorporated Areas of Walton County (19-04-0237P). | Mr. Trey Nick, District 4 Commissioner, 263 Chaffin Avenue, DeFuniak Springs, FL 32433. | Walton County Courthouse Annex, 47 North 6th Street, DeFuniak Springs, FL 32435. | https://msc.fema.gov/portal/advanceSearch. | Oct. 17, 2019 | 120317
Illinois:
Grundy. | Unincorporated Areas of Grundy County (18-05-6349P). | Mr. Chris Balkema, Chairman, Grundy County Board, 1320 Union Street, Morris, IL 60450. | Grundy County Administration Building, 1320 Union Street, Morris, IL 60450. | https://msc.fema.gov/portal/advanceSearch. | Oct. 18, 2019 | 170256
Grundy. | Village of Carbon Hill (18-05-6349P). | The Honorable Richard Jurzak, Mayor, Village of Carbon Hill, 695 North Holcomb Street, Carbon Hill, IL 60416. | Village Hall, 695 North Holcomb, Carbon Hill, IL 60416. | https://msc.fema.gov/portal/advanceSearch. | Oct. 18, 2019 | 170257
Grundy. | Village of Coal City (18-05-6349P). | The Honorable Terry Halliday, Mayor, Village of Coal City, 515 South Broadway Street, Coal City, IL 60416. | Village Hall, 515 South Broadway Street, Coal City, IL 60416. | https://msc.fema.gov/portal/advanceSearch. | Oct. 18, 2019 | 170258
Grundy. | Village of Diamond (18-05-6349P). | The Honorable Teresa Kernc, Mayor, Village of Diamond, 1750 East Division Street, Diamond, IL 60416. | Village Hall, 1750 East Division Street, Diamond, IL 60416. | https://msc.fema.gov/portal/advanceSearch. | Oct. 18, 2019 | 170259
Whiteside. | City of Morrison (19-05-1824P). | The Honorable R. Everett Pannier, Mayor, City of Morrison, 200 West Main Street, Morrison, IL 61270. | City Hall, 200 West Main Street, Morrison, IL 61270. | https://msc.fema.gov/portal/advanceSearch. | Sep. 25, 2019 | 170691
Whiteside. | Unincorporated Areas of Whiteside County (19-05-1824P). | The Honorable James C. Duffy, Chairman, Whiteside County Board, 200 East Knox Street, Morrison, IL 61270. | Whiteside County Courthouse, 200 East Knox Street, Morrison, IL 61270. | https://msc.fema.gov/portal/advanceSearch. | Sep. 25, 2019 | 170687
Michigan:
Macomb. | Charter Township of Washington (18-05-3743P). | Mr. Dan O'Leary, Township Supervisor, Charter Township of Washington, 57900 Van Dyke Road, Washington, MI 48094. | City Hall, 57900 Van Dyke Road, Washington, MI 48094. | https://msc.fema.gov/portal/advanceSearch. | Oct. 16, 2019 | 260447
Oakland. | City of Novi (19-05-1154P). | The Honorable Bob Gatt, Mayor, City of Novi, 45175 Ten Mile Road, Novi, MI 48375. | Community Development Office, 45175 Ten Mile Road, Novi, MI 48375. | https://msc.fema.gov/portal/advanceSearch. | Oct. 25, 2019 | 260175
New York: Wayne. | Town of Walworth (18-02-2086P). | Ms. Susie C. Jacobs, Supervisor, Town of Walworth, 3600 Lorraine Drive, Walworth, NY 14568. | Building Department, 3600 Lorraine Drive, Walworth, NY 14568. | https://msc.fema.gov/portal/advanceSearch. | Dec. 6, 2019 | 361228
Oregon:
Clackamas. | City of Happy Valley (19-10-0342P). | The Honorable Tom Ellis, Mayor, City of Happy Valley, City Hall, 16000 Southeast Misty Drive, Happy Valley, OR 97086. | City Hall, 16000 Southeast Misty Drive, Happy Valley, OR 97086. | https://msc.fema.gov/portal/advanceSearch. | Nov. 1, 2019 | 410026
Deschutes. | City of Bend (18-10-0360P). | The Honorable Sally Russell, Mayor, City of Bend, 710 Northwest Wall Street, Bend, OR 97703. | City Hall, Planning Department, 710 Northwest Wall Street, Bend, OR 97703. | https://msc.fema.gov/portal/advanceSearch. | Oct. 23, 2019 | 410056
Grant. | City of Canyon City (19-10-0438P). | The Honorable Steve Fischer, Mayor, City of Canyon City, City Hall, 123 South Washington Street, Canyon City, OR 97820. | City Hall, 123 South Washington Street, Canyon City, OR 97820. | https://msc.fema.gov/portal/advanceSearch. | Oct. 17, 2019 | 410075
Grant. | City of John Day (19-10-0438P). | The Honorable Ron Lundbom, Mayor, City of John Day, City Hall, 450 East Main Street, John Day, OR 97845. | City Hall, 450 East Main Street, John Day, OR 97845. | https://msc.fema.gov/portal/advanceSearch. | Oct. 17, 2019 | 410077
Grant. | Unincorporated Areas of Grant County (19-10-0438P). | The Honorable Scott Myers, County Judge, Grant County, Grant County Courthouse, 201 South Humbolt Street, Suite 280, Canyon City, OR 97820. | Grant County Planning Department, 201 South Humbolt Suite 170, Canyon City, OR 97820. | https://msc.fema.gov/portal/advanceSearch. | Oct. 17, 2019 | 410074
Texas:
Denton. | City of Carrollton (19-06-1104P). | The Honorable Kevin Falconer, Mayor, City of Carrollton, City Hall, 1945 East Jackson Road, Carrollton, Texas 75006. | Engineering Department, 1945 East Jackson Road, Carrollton, TX 75006. | https://msc.fema.gov/portal/advanceSearch. | Oct. 24, 2019 | 480167
Denton. | City of Lewisville (19-06-1104P). | The Honorable Rudy Durham, Mayor, City of Lewisville, P.O. Box 299002, Lewisville, TX 75029. | Engineering Division, 151 West Church Street, Lewisville, TX 75057. | https://msc.fema.gov/portal/advanceSearch. | Oct. 24, 2019 | 480195
Washington: Skagit. | City of Mount Vernon (19-10-0683P). | The Honorable Jill Boudreau, Mayor, City of Mount Vernon, P.O. Box 809, Mount Vernon, WA 98273. | City Hall, 910 Cleveland Avenue, Mount Vernon, WA 98273. | https://msc.fema.gov/portal/advanceSearch. | Oct. 25, 2019 | 530158
Wisconsin: Dane. | Unincorporated Areas of Dane County (18-05-3131P). | Ms. Sharon Corrigan, District 26 Supervisor, City County Building Room 421, 210 Martin Luther King Jr. Boulevard, Madison, WI 53703. | Dane County Zoning Department, Room 116, 210 Martin Luther King Jr. Boulevard, Madison, WI 53703. | https://msc.fema.gov/portal/advanceSearch. | Oct. 24, 2019 | 550077

[FR Doc. 2019-16412 Filed 7-31-19; 8:45 am]

BILLING CODE 9110-12-P